DEPARTMENT OF ENERGY

Federal Energy Regulatory Commission

Combined Notice of Filings #1

Take notice that the Commission received the following electric corporate filings:

Docket Numbers: EC20-72-000.

Applicants: Exelon Generation Company, LLC, Calvert Cliffs Nuclear Power Plant, LLC, Nine Mile Point Nuclear Station, LLC, R.E. Ginna Nuclear Power Plant, LLC.

Description: Application for Authorization Under Section 203 of the Federal Power Act, et al. of Exelon Generation Company, LLC, et al.

Filed Date: 6/5/20.

Accession Number: 20200605-5262.

Comments Due: 5 p.m. ET 6/26/20.

Docket Numbers: EC20-73-000.

Applicants: Portland General Electric Company, Wheatridge Wind Energy, LLC.

Description: Joint Application for Authorization Under Section 203 of the Federal Power Act, et al. of Portland General Electric Company, et al.

Filed Date: 6/8/20.

Accession Number: 20200608-5215.

Comments Due: 5 p.m. ET 7/23/20.

Take notice that the Commission received the following electric rate filings:

Docket Numbers: ER20-1061-002.

Applicants: Turquoise Nevada LLC.

Description: Tariff Amendment: Second Amended and Restated Co-Tenancy and Shared Facilities Agreement to be effective 2/22/2020.

Filed Date: 6/10/20.

Accession Number: 20200610-5122.

Comments Due: 5 p.m. ET 7/1/20.

Docket Numbers: ER20-1648-001.

Applicants: Inter-Power/AhlCon Partners, L.P.

Description: Triennial Market Power Analysis of Inter-Power/AhlCon Partners, L.P.

Filed Date: 6/9/20.

Accession Number: 20200609-5171.

Comments Due: 5 p.m. ET 8/10/20.

Docket Numbers: ER20-2018-000.

Applicants: Versant Power.

Description: § 205(d) Rate Filing: Service Agreements Notice of Succession to Versant Power to be effective 5/11/2020.

Filed Date: 6/9/20.

Accession Number: 20200609-5138.

Comments Due: 5 p.m. ET 6/30/20.

Docket Numbers: ER20-2019-000.

Applicants: Gray County Wind, LLC.

Description: Baseline eTariff Filing: Gray County Wind, LLC Application for MBR Authority to be effective 8/9/2020.

Filed Date: 6/9/20.

Accession Number: 20200609-5156.

Comments Due: 5 p.m. ET 6/30/20.

Docket Numbers: ER20-2020-000.

Applicants: Midcontinent Independent System Operator, Inc.

Description: § 205(d) Rate Filing: 2020-06-10_SA3500_METC-Calhoun County Solar GIA (J857) to be effective 5/27/2020.

Filed Date: 6/10/20.

Accession Number: 20200610-5056.

Comments Due: 5 p.m. ET 7/1/20.

Docket Numbers: ER20-2021-000.

Applicants: E.I. du Pont de Nemours and Company.

Description: Notice of Cancellation of Market-Based Rate Tariff of E.I. du Pont de Nemours and Company.

Filed Date: 3/16/20.

Accession Number: 20200316-0020.

Comments Due: 5 p.m. ET 7/1/20.

Docket Numbers: ER20-2022-000.

Applicants: Commonwealth Edison Company, PJM Interconnection, L.L.C., Rochelle Municipal Utilities.

Description: Tariff Cancellation: Notice of Cancellation Service Agreement No. 4232 to be effective 6/9/2020.

Filed Date: 6/10/20.

Accession Number: 20200610-5077.

Comments Due: 5 p.m. ET 7/1/20.

Docket Numbers: ER20-2023-000.

Applicants: Techren Solar II LLC.

Description: Baseline eTariff Filing: Reactive Power Compensation Filing to be effective 7/1/2020.

Filed Date: 6/10/20.

Accession Number: 20200610-5097.

Comments Due: 5 p.m. ET 7/1/20.

Docket Numbers: ER20-2024-000.

Applicants: Commonwealth Edison Company, PJM Interconnection, L.L.C.

Description: § 205(d) Rate Filing: Commonwealth Edison City of Rochelle Interconnection Agreement to be effective 6/9/2020.

Filed Date: 6/10/20.

Accession Number: 20200610-5100.

Comments Due: 5 p.m. ET 7/1/20.

Docket Numbers: ER20-2025-000.

Applicants: Rock Garden Solar LLC.

Description: § 205(d) Rate Filing: Certificate of Concurrence Tap Line to be effective 6/11/2020.

Filed Date: 6/10/20.

Accession Number: 20200610-5135.

Comments Due: 5 p.m. ET 7/1/20.

Docket Numbers: ER20-2026-000.

Applicants: Selkirk Cogen Partners, L.P.

Description: Compliance filing: Selkirk Cogan Partners, L.P. MBR Change in Status Filing to be effective 6/12/2020.

Filed Date: 6/10/20.

Accession Number: 20200610-5146.

Comments Due: 5 p.m. ET 7/1/20.

Docket Numbers: ER20-2027-000.

Applicants: Cedar Springs Transmission, LLC.

Description: Baseline eTariff Filing: Cedar Springs Transmission LLC Application for MBR Authority to be effective 6/10/2020.

Filed Date: 6/10/20.

Accession Number: 20200610-5147.

Comments Due: 5 p.m. ET 7/1/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 10, 2020.
Nathaniel J. Davis, Sr.,
Deputy Secretary.

[FR Doc. 2020-12922 Filed 6-15-20; 8:45 am]

BILLING CODE 6717-01-P